DEPARTMENT OF HOMELAND SECURITY

Federal Emergency Management Agency

[Docket ID: FEMA-2015-0024; OMB No. 1660-0100]

Agency Information Collection Activities: Proposed Collection; Comment Request; General Admissions Applications (Long and Short) and Stipend Forms

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the admission applications and student stipend agreements for FEMA courses and programs that are delivered on-campus at the FEMA National Emergency Training Center (NETC) facility and throughout the Nation, in coordination with State and local training officials and local colleges and universities.

DATES: Comments must be submitted on or before March 28, 2016.

ADDRESSES: To avoid duplicate submissions to the docket, please use only one of the following means to submit comments:

(1) Online. Submit comments at www.regulations.gov under Docket ID FEMA-2015-0024. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Smiley White, Supervisory Program Specialist, United States Fire Administration, 301-447-1055. You may contact the Records Management Division for copies of the proposed collection of information at email address: FEMA-Information-Collections-Management@fema.dhs.gov.

SUPPLEMENTARY INFORMATION: FEMA offers courses and programs that are delivered at National Emergency Training Center (NETC) in Emmitsburg, Maryland and the Center for Domestic Preparedness (CDP) in Anniston, Alabama and throughout the Nation in coordination with State and local training officials and local colleges and universities to carry out the authorities listed below. To facilitate meeting these requirements, FEMA collects information necessary to be accepted for courses and for the student stipend or travel reimbursement program for these courses. There are several organizations within the Federal Emergency Management Agency that deliver training and education in support of the FEMA mission.

1. Section 7 of Public Law 93-498, Federal Fire Prevention and Control Act, as amended, established the National Fire Academy (NFA) to advance the professional development of fire service personnel and of other persons engaged in fire prevention and control activities.

2. Section 611.f. of subchapter VI of the Robert T. Stafford Disaster Relief and Emergency Assistance Act (Stafford Act) as amended, 42 U.S.C. 5121-5207, authorizes the Director to conduct or arrange, by contract or otherwise, for the training programs for the instruction of emergency preparedness officials and other persons in the organization, operation, and techniques of emergency preparedness; conduct or operate schools or classes, including the payment of travel expenses, in accordance with subchapter I of chapter 57 of title 5, United States Code, and the Standardized Government Travel Regulations, and per diem allowances, in lieu of subsistence for trainees in attendance or the furnishing of subsistence and quarters for trainees and instructors on terms prescribed by the Director; and provide instructors and training aids as deemed necessary. This training is conducted through the Emergency Management Institute (EMI).

3. Title XIV of the National Defense Authorization Act of 1997, PL 104-201, 110 Stat. 2432; title I of the Departments of Commerce, Justice, and State, the Judiciary, and Related Agencies Appropriations Act of 1998, PL 105-119, 111 Stat. 2440; sections 403 and 430 of the Homeland Security Act of 2002, PL 107-296, 116 Stat. 2135; and section 611 of the Post-Katrina Emergency Management Reform Act of 2006, PL 109-295, 120 Stat. 1355, all authorize the Center for Domestic Preparedness (CDP) to serve as a training facility for all relevant federally supported training efforts that target state and local law enforcement, firefighters, emergency medical personnel, and other key agencies such as public works and state and local emergency management. The focus of the training is to prepare relevant state and local officials to deal with chemical, biological, or nuclear terrorist acts and handle incidents dealing with hazardous materials.

4. PL 110-53, State. 6 U.S.C. 1102 established a National Domestic Preparedness Consortium within the Department of Homeland Security. According to the enacting legislation, the members of the Consortium consist of the Center for Domestic Preparedness; the National Energetic Materials Research and Testing Center, New Mexico Institute of Mining and Technology; the National Center for Biomedical Research and Training, Louisiana State University; the National Emergency Response and Rescue Training Center, Texas A&M University; the National Exercise, Test, and Training Center, Nevada Test Site; the Transportation Technology Center, Incorporated, in Pueblo, Colorado; and the National Disaster Preparedness Training Center, University of Hawaii. Other organizations have been added to the Consortium membership since the passage of the enacting legislation. The Consortium shall identify, test, and deliver training to State, local, and tribal emergency response providers, provide on-site and mobile training at the performance, management, and planning levels, and facilitate the delivery of training by the training partners of the Department.

5. Under the authorities of Exec. Order Nos. 12127 and 12148, the Administrator, Federal Emergency Management Agency, is responsible for carrying out the mandates of the public laws mentioned above.

Collection of Information

Title: General Admissions Applications (Long and Short) and Stipend Forms.

Type of Information Collection: Revision of a currently approved information collection.

OMB Number: 1660-0100.

FEMA Forms: FEMA Form 119-25-0-1, General Admissions Application; FEMA Form 119-25-3, Student Stipend Agreement; FEMA Form 119-25-4, Student Stipend Agreement (Amendment); FEMA Form 119-25-5, National Fire Academy Executive Fire Officer Program Application Admission; FEMA Form 119-25-0-6, General Admissions Application Short Form.

Abstract: FEMA Form 119-25-0-1 has an increase in the number of respondents from 25,000 to 52,000 (+27,000) because FEMA is replacing all existing General Admissions Application and Training Registration forms with a single FEMA-wide form which will be submitted as a paper version or using an on-line application process. There was also an adjustment increase for FEMA Form 119-25-0-1 from 3,750 hours to 7,800 (+4,050) hours. The FEMA Form 119-25-0-6 has been created for those courses where less information is required from the respondent. It is expected that 154,500 respondents will used this form requiring 15,450 burden hours. The FEMA Form 119-25-2 (reduction of 80,000 respondents and 8,000 burden hours) is being eliminated and being replaced by the FEMA Form 119-25-0-1.

Affected Public: Business and other for-profit; Not-for-profit institutions; Federal Government; and State, Local, or Tribal Government.

Number of Respondents: 214,300.

Number of Responses: 214,300.

Estimated Total Annual Burden Hours: 24,400.

Estimated Cost: $2,063,978.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 20, 2016.
Richard W. Mattison,
Records Management Program Chief, Mission Support, Federal Emergency Management Agency, Department of Homeland Security.

[FR Doc. 2016-01495 Filed 1-25-16; 8:45 am]

BILLING CODE 9111-72-P